DEPARTMENT OF THE INTERIOR

National Park Service

Integrated Multimodal Transportation Plan/Environmental Impact Statement, Grand Teton National Park, WY

AGENCY: National Park Service, Department of the Interior.

ACTION: Notice of Intent to prepare an environmental impact statement for an Integrated Multimodal Transportation Plan, Grand Teton National Park.

SUMMARY: Under the provisions of the National Environmental Policy Act, the National Park Service is preparing an environmental impact statement for an Integrated Multimodal Transportation Plan for Grand Teton National Park. The environmental impact statement will be approved by the Director, Intermountain Region.

The Integrated Multimodal Transportation Plan will serve as a management and decision making tool for developing short and long-term solutions to problems associated with transportation in and around Grand Teton National Park. The primary objectives of the plan include (1) regional partnerships between the park and its gateway communities to reduce traffic impacts in both the park and surrounding communities, minimize duplication of services and facilities, and provide links to regional pathways to improve recreational opportunities in the park; (2) increasing the range of travel mode choices within the park, other than via private automobile, available to visitors, residents and employees of all ages and physical abilities; (3) provisions for safe travel throughout the park by all modes; and (4) protection of the park's natural and cultural resources from impacts attributable to vehicles and visitor use, including inappropriate parking along roadways or parking lot edges, noise, air quality, and wildlife mortality.

The National Park Service conducted public scoping (public meetings and solicitation of comments from state, county and town agencies and organizations; park neighbors; state historic preservation officer; and associated American Indian tribes) for the Integrated Multimodal Transportation Plan from December, 2001 to January, 2002 and began preparing an environmental assessment for a range of draft alternatives. Due to the degree to which potential impacts are uncertain, the National Park Service is proceeding with preparation of an environmental impact statement.

DATES: The National Park Service will conduct further public scoping for the draft alternatives and environmental impact statement for a period of 30-days beyond publication of this Notice of Intent.

ADDRESSES: You may mail comments to: Integrated Multimodal Transportation Plan, Superintendent's Office, Grand Teton National Park, PO Drawer 170, Moose, WY 83012. You may also hand-deliver comments to the Superintendent's Office, Grand Teton National Park, Moose, Wyoming (Attn: Integrated Multimodal Transportation Plan).

FOR FURTHER INFORMATION CONTACT: Superintendent Steve Martin, Grand Teton National Park, PO Drawer 170, Moose, WY 83012; Tel: (307) 739-3410; FAX: (307) 739-3440; e-mail: grte_superintendent@nps.gov.

SUPPLEMENTARY INFORMATION: Our practice is to make comments, including names and home addresses of respondents, available for public review during regular business hours. Individual respondents may request that we withhold their home address from the record, which we will honor to the extent allowable by law. If you wish us to withhold your name and/or address, you must state this prominently at the beginning of your comment. We will make all submissions from organizations or businesses, and from individuals identifying themselves as representatives or officials of organizations or businesses, available for public inspection in their entirety.

Dated: June 21, 2002.
R. Everhart,
Acting Director, Intermountain Region.

[FR Doc. 02-24062 Filed 9-20-02; 8:45 am]

BILLING CODE 4310-70-P